DEPARTMENT OF TRANSPORTATION

Research and Special Programs Administration

[Docket No. RSPA-98-4470]

Pipeline Safety: Meetings of the Pipeline Safety Advisory Committees

AGENCY: Office of Pipeline Safety, Research and Special Programs Administration, DOT.

ACTION: Notice; Meetings of the Technical Pipeline Safety Standards Committee and the Technical Hazardous Liquid Pipeline Safety Standards Committee.

SUMMARY: Meetings of the Technical Pipeline Safety Standards Committee (TPSSC) and the Technical Hazardous Liquid Pipeline Safety Standards Committee (THLPSSC) will be held on December 14 and 15, 2004, at the Marriott Washington, 1221 22nd Street, NW., Washington, DC. The Office of Pipeline Safety (OPS) will provide briefings on pending rulemakings and regulatory initiatives. The advisory committees will discuss and vote on proposed rulemakings.

ADDRESSES: Members of the public may attend the meetings at the Marriott Washington, 1221 22nd Street, NW., Washington, DC. The phone number for Marriott reservations is 1-800-228-9290. Reservations by attendees must be received on or before November 22. Priority is given to advisory committee members and State pipeline safety representatives for a limited block of rooms. Any additional information or changes will be posted on the OPS Web page approximately 15 days before the meeting date at http://ops.dot.gov.

An opportunity will be provided for the public to make short statements on the topics under discussion. Anyone wishing to make an oral statement should notify Jean Milam, (202) 493-0967, not later than November 16, 2004, on the topic of the statement and the length of the presentation. The presiding officer at each meeting may deny any request to present an oral statement and may limit the time of any presentation.

Information on Services for Individuals With Disabilities

For information on facilities or services for individuals with disabilities or to request special assistance at the meeting, contact Jean Milam at (202) 493-0967.

Comments: You may submit written comments on the subject matter of the advisory committee meetings by mail or deliver to the Dockets Facility, U.S. Department of Transportation, Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should reference docket number RSPA-98-4470. Anyone who would like confirmation of mailed comments must include a self-addressed stamped postcard.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

FOR FURTHER INFORMATION CONTACT: Cheryl Whetsel, OPS, (202) 366-4431 or Richard Huriaux, OPS, (202) 366-4565, regarding the subject matter of this notice.

SUPPLEMENTARY INFORMATION: The TPSSC and THLPSSC are statutorily mandated advisory committees that advise OPS on proposed safety standards for gas and hazardous liquid pipelines. These advisory committees are constituted in accordance with section 10(a)(2) of the Federal Advisory Committee Act (Pub. L. 92-463, 5 U.S.C. app. 1). The committees consist of 15 members—five each representing government, industry, and the public. The TPSSC and THLPSSC are tasked with determining reasonableness, cost-effectiveness, and practicability of proposed pipeline regulations.

Federal law requires that OPS submit cost-benefit analyses and risk assessment information on each proposed safety standard to the advisory committees. The TPSSC and/or THLPSSC evaluate the merits of the data and the methods used in these analyses and, when appropriate, provide recommendations on the adequacy of the cost-benefit analyses.

In addition to the advisory committee meetings, OPS will soon publish a separate notice to announce four public meetings to be held during the week of December 13-17, 2004. These public meetings will include sessions on gas distribution system integrity management, the pipeline operator drug and alcohol program, updates to the operator personnel qualification program, and pipeline safety communications. These public meetings are being scheduled during the same week as the advisory committee meetings to afford members of the advisory committees, state pipeline safety representatives, and the general public the maximum opportunity to attend both the advisory committee meetings and the issue-specific public meetings.

Preliminary Meeting Schedule

On Tuesday, December 14, 2004, from 8:30 a.m. to 12 p.m. e.s.t., a meeting of the THLPSSC will be held. The agenda includes briefings on the following:

1. American Petroleum Institute (API) Petition—Changes to Liquid Integrity Management Program (IMP).

2. Response Plans for Onshore Oil Pipelines.

3. Direct Assessment for Hazardous Liquid Pipelines (scheduled for VOTE).

On Wednesday, December 15, 2004, from 8:30 p.m. to 12 p.m. e.s.t., the THLPSSC and the TPSSC will meet in joint session. OPS will provide the committees with briefings on the following:

1. Common Ground Alliance.

2. Community and Technical Assistance State Damage Prevention Assessment Briefing.

3. Pipeline Industry Implementation of Public Awareness Programs (scheduled for VOTE).

4. Annual Update of Standards Incorporated by Reference (scheduled for VOTE).

5. Transportation Research Board Report.

6. Passage of Internal Inspection Devices.

On Wednesday, December 15, from 1 p.m. to 5 p.m. e.s.t., a meeting of the TPSSC will be held. The following topics will be discussed:

1. Gas Gathering Line Definition.

2. Direct Assessment for Gas Pipelines.

3. Protocols for Gas Integrity Management Program.

4. Technical Studies by Federal Energy Regulatory Commission and Department of Energy.

Authority: 49 U.S.C. 60102, 60115.

Issued in Washington, DC on October 18, 2004.
Richard D. Huriaux,
Director, Technical Standards, Office of Pipeline Safety.

[FR Doc. 04-23588 Filed 10-20-04; 8:45 am]

BILLING CODE 4910-60-P